DEPARTMENT OF THE INTERIOR

National Park Service

[NPS-IMR-SAAN-30891; PS.SIMLA0090.00.1]

Minor Boundary Revision at San Antonio Missions National Historical Park

AGENCY: National Park Service, Interior.

ACTION: Notification of boundary revision.

SUMMARY: Notice is hereby given that the boundary of San Antonio Missions National Historical Park is modified to include one additional tract of land, which is immediately adjacent to the Park boundary and is approximately 42.51 acres of vacant land located in Bexar County, Texas. The National Park Service has determined that inclusion of tract 107-29 will provide preservation of key Cultural Landscapes that will almost complete the protection of the Mission San Juan labores. The property will be purchased by the United States from a willing seller.

DATES: The effective date of this boundary revision is April 7, 2021.

ADDRESSES: The map depicting the boundary revision is available for inspection at the following locations: National Park Service, Interior Regions 6, 7 & 8, Land Resources Program Center, 12795 West Alameda Parkway, Denver, Colorado 80228 and National Park Service, Department of the Interior, 1849 C Street NW, Washington, DC 20240.

FOR FURTHER INFORMATION CONTACT: Deputy Realty Officer Heather Horton, National Park Service, Interior Regions 6, 7 & 8, Land Resources Program Center, 12795 West Alameda Parkway, Denver, Colorado 80228, telephone 720-620-0995.

SUPPLEMENTARY INFORMATION: San Antonio Missions National Historical Park's enabling legislation authorizes the National Park Service (NPS) to make minor boundary revisions “when necessary.” Public Law 95-629, 16 U.S.C. 410ee(a)(4) and 16 U.S.C. 410ee(b)(1)(H), provide that, after notifying the House Committee on Natural Resources and the Senate Committee on Energy and Natural Resources, the Secretary of the Interior may make minor revisions to the boundaries of an area of the National Park System by publication of a revised boundary map or other description in the Federal Register. This action will add tract 107-29 containing 42.51 acres, more or less, to San Antonio Missions National Historical Park. The referenced tract for the boundary revision is depicted on Map No. 472/173,694 dated September 10, 2020.

BILLING CODE 4312-52-P

Michael T. Reynolds,
Regional Director, Interior Regions 6,7 & 8.

[FR Doc. 2021-07101 Filed 4-6-21; 8:45 am]

BILLING CODE 4312-52-C